DEPARTMENT OF LABOR

Pension and Welfare Benefits Administration

29 CFR Part 2520

RIN 1210-AA52

Annual Reporting and Disclosure Requirements; Correction

AGENCY: Pension and Welfare Benefits Administration, Labor.

ACTION: Final rule; correction.

SUMMARY: On April 19, 2000, the Pension and Welfare Benefits Administration published in the Federal Register (65 FR 21068) amendments to the regulations governing annual reporting and disclosure requirements under Title I of the Employee Retirement Income Security Act of 1974, as amended (ERISA). This document contains a technical correction to those amendments.

DATES: This correction is effective on May 19, 2000.

FOR FURTHER INFORMATION CONTACT: Eric A. Raps at (202) 219-8515 (not a toll-free number).

SUPPLEMENTARY INFORMATION: On April 19, 2000, the Pension and Welfare Benefits Administration published in the Federal Register (65 FR 21068) amendments to Department of Labor regulations relating to the annual reporting and disclosure requirements under part 1 of Title I of ERISA. In publishing these regulations, the Department amended the summary annual report forms at 29 CFR 2520.104b-10(d)(3) and (4), but inadvertently omitted a change to reflect the fact that under the ERISA Filing Acceptance System (EFAST) annual returns/reports are filed with the Pension and Welfare Benefits Administration rather than the Internal Revenue Service. A technical correction amendment to the final rule is, therefore, necessary.

Correction of Publication

Accordingly, the publication of the final rule on April 19, 2000 (65 FR 21068) which was the subject of FR Doc. 00-9611 is corrected, with respect to the amendments to 29 CFR 2520.104b-10, as follows:

§ 2520.104b-10 [Corrected]

On page 21085, column 3, remove paragraph d. and add in its place a revised paragraph d. to read as follows:

d. Paragraphs (d)(3) and (d)(4) are amended as follows:

1. The second sentence of the introductory text under the heading “SUMMARY ANNUAL REPORT FOR (NAME OF PLAN)” the term “Internal Revenue Service” is removed and the term “Pension and Welfare Benefits Administration” is added in its place;

2. The last sentence under the heading “Your Rights to Additional Information” is removed and the following sentence is added in its place: “Requests to the Department should be addressed to: Public Disclosure Room, Room N5638, Pension and Welfare Benefits Administration, U.S. Department of Labor, 200 Constitution Avenue, N.W., Washington, D.C. 20210.”

* * * * *

Dated: May 31, 2000.
Leslie Kramerich,
Acting Assistant Secretary, Pension and Welfare Benefits Administration, U.S. Department of Labor.

[FR Doc. 00-14000 Filed 6-2-00; 8:45 am]

BILLING CODE 4510-29-P